DEPARTMENT OF ENERGY

National Coal Council; Notice of Open Meetings

AGENCY: Department of Energy.

ACTION: Notice of open meetings.

SUMMARY: This notice announces a meeting of the National Coal Council (NCC). The Federal Advisory Committee Act requires that public notice of these meetings be announced in the Federal Register.

DATES: Thursday, April 11, 2019, 4:00 p.m.-9:00 p.m. Friday, April 12, 2019, 8:30 a.m.-12:15 p.m.

ADDRESSES: Washington Marriott Wardman Park Hotel; 2650 Woodley Park Road NW, Washington, DC 20008.

FOR FURTHER INFORMATION CONTACT: Thomas Sarkus, U.S. Department of Energy, National Energy Technology Laboratory, Mail Stop 920-125, 626 Cochrans Mill Road, Pittsburgh, PA 15236-0940; Telephone: 412-386-5981.

SUPPLEMENTARY INFORMATION:

Purpose of the Council: The National Coal Council provides advice and recommendations to the Secretary of Energy, on general policy matters relating to coal and the coal industry.

Purpose of Meeting: The 2019 Spring Meeting of the National Coal Council.

Tentative Agenda

Thursday, April 11, 2019, 4:00 p.m.-9:00 p.m.

1. Reception and dinner from 4:00 p.m. to 8:00 p.m. RSVP required. Main part of the program will begin at 8:00 p.m.

2. At 8:00 p.m., call to order and opening remarks by Steven Winberg, NCC Designated Federal Officer & Assistant Secretary for Fossil Energy, U.S. Department of Energy.

3. Keynote Remarks by Mary Neumayr, Chair, White House Council on Environmental Quality.

4. Closing Remarks by Steven Winberg, NCC Designated Federal Officer & Assistant Secretary for Fossil Energy, U.S. Department of Energy.

5. Adjourn for the day.

Friday, April 12, 2019, 8:30 a.m.-12:15 p.m.

6. Call to order and opening remarks by Steven Winberg, NCC Designated Federal Officer & Assistant Secretary for Fossil Energy, U.S. Department of Energy.

7. Election of NCC Chair and Vice-chair.

8. Keynote remarks by Secretary Rick Perry (invited), U.S. Department of Energy.

NCC Report presentation by report chair Randall W. Atkins, Chairman & CEO of Ramaco Coal LLC and NCC membership vote on report. The draft report, titled “Coal in a New Carbon Age: Powering a Wave of Innovation in Advanced Products and Manufacturing,” is available online at: https://www.nationalcoalcouncil.org/studies/2019/NCC-COAL-IN-A-NEW-CARBON-AGE.pdf.

9. Announcement of election results for NCC Chair and Vice-chair.

10. Presentation by Seth Schwartz, President of Energy Ventures Analysis, on The Role of U.S. Coal in National Security.

11. Presentation by William West, President of Arq Limited, on Microfine Hydrocarbon: A Novel Approach to Upgrading Coal into Higher-Value Oil Products.

12. Presentation by Peter Reineck of Peter Reineck Associates Limited representing Dr. Ing. Massimo Malavasi of Itea S.p.A. on Improving Coal Economics: Retrofitting Flameless Pressurized Oxy-Combustion with CO2 Capture.

13. Public Comment Period.

14. Other Business.

15. Adjourn.

Attendees are requested to register in advance for the meeting at: http://www.nationalcoalcouncil.org/page-NCC-Events.html.

Public Participation: The meeting is open to the public. If you would like to file a written statement with the Council, you may do so either before or after the meeting. If you would like to make oral statements regarding any item on the agenda, you should contact Thomas Sarkus, (412) 386-5981 or thomas.sarkus@netl.doe.gov (email). You must make your request for an oral statement at least 5 business days before the meeting. Reasonable provision will be made to include oral statements on the scheduled agenda. The Chairperson of the Council will lead the meeting in a manner that facilitates the orderly conduct of business. Oral statements are limited to 10-minutes per organization and per person.

Minutes: A link to the transcript of the meeting will be posted on the NCC website at: http://www.nationalcoalcouncil.org/.

Signed in Washington, DC, on March 13, 2019.
LaTanya Butler,
Deputy Committee Management Officer.

[FR Doc. 2019-05104 Filed 3-18-19; 8:45 am]

BILLING CODE 6450-01-P